FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR 515).

Persons knowing of any reason why any of the following applicants should not receive a license are requested to contact the Office of Freight Forwarders, Federal Maritime Commission, Washington, D.C. 20573.

Non-Vessel-Operating Common Carrier Ocean Transportation Intermediary Applicants:

First Express International Corp., 148-36 Guy R. Brewer Blvd., Suite 200, Jamaica, NY 11434, Officer: James Lee, President (Qualifying Individual)

ANA Link, Ltd., 177-25 Rockaway Blvd., Suite 205, Jamaica, NY 11434, Officer: Tal Y. Yo, President (Qualifying Individual)

Non-Vessel-Operating Common Carrier and Ocean Freight Forwarder Transportation Intermediary Applicants:

Mavela Corp., 120 E 11th Street, Los Angeles, CA 90015, Officers: James Ortiz, President (Qualifying Individual), Teresa Ortiz, Secretary

Ocean Freight Forwarders—Ocean Transportation Intermediary Applicants:

McCollister's Transportation Systems, Inc., 1800 Route 130 North, Burlington, NJ 08016, Officers: John M. Roller, Vice President (Qualifying Individual), H. Daniel McCollister, President

Smith Logistics International, Inc., 12300 N.W. 32nd Avenue, Miami, FL 33167, Officers: Igort del Haya, President (Qualifying Individual), Lee Futernick, Vice President

Dated: January 28, 2000.
Bryant L. VanBrakle,
Secretary.

[FR Doc. 00-2307 Filed 2-2-00; 8:45 am]

BILLING CODE 6730-01-P